ENVIRONMENTAL PROTECTION AGENCY

40 CFR Chapter I

[OPP-2003-0010; FRL-7298-9]

RIN 2070-AD72

Endangered Species and Pesticide Regulation; Reopening of Comment Period

AGENCY: Environmental Protection Agency (EPA).

ACTION: Advance notice of proposed rulemaking; reopening of comment period.

SUMMARY: This document reopens the public comment period established in an advance notice of proposed rulemaking (ANPR) issued in the Federal Register of January 24, 2003. In that document, EPA sought comment on an ANPR for an endangered species and pesticide regulation. EPA is hereby reopening the comment period, which ended on March 10, 2003. The new comment period will end March 25, 2003.

DATES: Comments, identified by the docket ID number OPP-2003-0010, must be received on or before March 25, 2003.

ADDRESSES: Comments may be submitted electronically, by mail, or through hand delivery/courier. Follow the detailed instructions as provided in Unit I. of the SUPPLEMENTARY INFORMATION of the January 24, 2003 Federal Register document.

FOR FURTHER INFORMATION CONTACT: Arthur-Jean Williams, Field and External Affairs Division (7506C), Office of Pesticide Programs, Environmental Protection Agency, 1200 Pennsylvania Ave., NW., Washington, DC 20460-0001; telephone number: (703) 305-5239; fax number: (703) 308-3259; e-mail address: williams.arty@epa.gov.

SUPPLEMENTARY INFORMATION:

I. General Information

A. Does this Action Apply to Me?

This action is directed to the public in general and may be of particular interest to persons who manufacture, sell or use pesticides or who are part of a State or Tribe engaged in the regulation of pesticide products and to groups interested in environmental regulation. The Agency has not attempted to describe all the specific entities that may be affected by this action. If you have any questions regarding the applicability of this action to a particular entity, consult Arthur-Jean Williams at the telephone number/e-mail address listed under FOR FURTHER INFORMATION CONTACT.

B. How Can I Get Copies of this Document and Other Related Information?

1. Docket. EPA has established an official public docket for this action under docket identification (ID) number OPP-2003-0010. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. A frequently updated electronic version of 40 CFR Chapter I is available at http://www.access.gpo.gov/nara/cfr/cfrhtml_00/Title_40/40cfr1_00.html, a beta site currently under development.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit Comments?

To submit comments, or access the official public docket, please follow the detailed instructions as provided in Unit I. of the SUPPLEMENTARY INFORMATION of the January 24, 2003 Federal Register document. If you have questions, consult the person listed under FOR FURTHER INFORMATION CONTACT.

II. Background

On January 24, 2003, EPA, in conjunction with the Fish and Wildlife Service, U.S. Department of the Interior, and National Marine Fisheries Service, National Oceanic and Atmospheric Administration, U.S. Department of Commerce, issued a Federal Register document (68 FR 3785) (FRL-7287-3) seeking public comment on an ANPR for an endangered species and pesticide regulation.

Among the comments received thus far was a request, signed by 30 groups, for an extension of the comment period by 45 days. While the agencies appreciate the need to provide adequate opportunity for public input, the agencies believe a shorter extension is warranted for several reasons. First, numerous comments were already received during the original comment period. Second, the January 24, 2003 Federal Register notice was an ANPR. Thus, the public will have further opportunity to comment with future publication of a notice of proposed rulemaking.

III. What Action is EPA Taking?

Since EPA has an electronic docket system that allows distribution of materials more easily to interested persons, EPA agreed to take responsibility for all of the administrative duties related to publication of the ANPR and this document, including the creation of a public docket, receipt of public comments, and other related matters. Therefore, EPA, on behalf of the three agencies, hereby reopens the comment period, which ended on March 10, 2003. The new comment period will end March 25, 2003.

IV. What is the Agency's Authority for Taking this Action?

The ANPR was issued under the authority of section 7 of the Endangered Species Act (ESA), as amended, 16 U.S.C. 1531 et seq., and the Federal Insecticide, Fungicide, and Rodenticide Act (FIFRA), 7 U.S.C. 136 et seq.

V. Do Any Statutory and Executive Order Reviews Apply to this Action?

No. This action merely extends the date by which public comments must be submitted to EPA on an ANPR that previously published in the Federal Register of January 24, 2003 (68 FR 3785). For information about the applicability of the regulatory assessment requirements to the ANPR, please refer to the discussion in Unit IV. of that document (68 FR 3785).

List of Subjects

Environmental protection, Endangered species, Pesticides.

Dated: March 10, 2003,
Stephen L. Johnson,
Assistant Administrator, Office of Prevention, Pesticides and Toxic Substances.

[FR Doc. 03-6188 Filed 3-11-03; 2:49 pm]

BILLING CODE 6560-50-S